DEPARTMENT OF JUSTICE

Notice of Lodging Proposed Consent Decree

In accordance with Departmental Policy, 28 CFR 50.7, notice is hereby given that a proposed Consent Decree in United States v. LaPant, Civil Action Number 2:16-cv-01498-KJM-DB, was lodged with the United States District Court for the Eastern District of California on September 11, 2018.

This proposed Consent Decree concerns a complaint filed by the United States on June 30, 2016, against Goose Pond Ag, Inc. and Farmland Management Services, pursuant to Sections 301 and 404 of the Clean Water Act, 33 U.S.C. 1311 and 1344, to obtain injunctive relief from and impose civil penalties against the Defendants for violating the Clean Water Act by discharging pollutants without a permit into waters of the United States. The proposed Consent Decree resolves these allegations against these Defendants by requiring them to perform mitigation and other injunctive relief and to pay a civil penalty.

The Department of Justice will accept written comments relating to this proposed Consent Decree for thirty (30) days from the date of publication of this Notice, however we encourage the submission of all comments by October 10, 2018. Please address comments to Andrew Doyle, Senior Attorney, United States Department of Justice, Environment and Natural Resources Division, Environmental Defense Section, Post Office Box 7611, Washington, DC 20044, and refer to United States v. LaPant, DJ #90-5-1-1-20800.

The proposed Consent Decree may be examined at the Clerk's Office at the United States District Court for the Eastern District of California, Robert T. Matsui Federal Courthouse, 501 I Street, Room 4-200, Sacramento, CA, 95814. In addition, the proposed Consent Decree may be examined electronically at http://www.justice.gov/enrd/consent-decrees.

Cherie L. Rogers,
Assistant Section Chief, Environmental Defense Section, Environment and Natural Resources Division.

[FR Doc. 2018-20088 Filed 9-14-18; 8:45 am]

BILLING CODE 4410-15-P